DEPARTMENT OF HEALTH AND HUMAN SERVICES

Centers for Disease Control and Prevention

[60Day-16-16CA; Docket No. CDC-2015-0096]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Update the Height Recommendation for Proper Seat Belt Fit among Children.” CDC will use the information collected to inform CDC's child passenger safety recommendation regarding when children can safely transition from using a booster seat to using only a seat belt.

DATES: Written comments must be received on or before January 8, 2016.

ADDRESSES: You may submit comments, identified by Docket No. CDC-2015-0096 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Update the Height Recommendation for Proper Seat Belt Fit among Children—New—National Center for Injury Prevention and Control (NCIPC), Centers for Disease Control and Prevention (CDC).

Background and Brief Description

Motor vehicle crashes are a leading cause of death among children. Proper restraint use is critical for children in order to prevent injuries and death in a motor vehicle crash. Booster seat use reduces the risk for serious injury by 45% for children aged 4-8 years when compared with seat belt use alone. For older children and adults, seat belt use reduces the risk for death and serious injury by approximately half (NHTSA, 2013). Based on this evidence, CDC recommends using age- and size-appropriate child restraints (including child safety seats and booster seats) in the back seat until adult seat belts fit properly (i.e. when the lap belt lies across the upper thighs, not the stomach; and the shoulder belt lies across the shoulder and chest, not the neck or face).

For maximum protection, it is especially important for children to not transition to using only a seat belt before they are large enough for the seat belt to properly fit. The current recommendation for when children can safely transition to a seat belt is 57 inches tall. This height recommendation of 57 inches was derived from a study of 155 children aged 6 to 12 years who were assessed for seat belt fit in 3 different types of vehicles in 1993. Since 1993, both children and the vehicle fleet have changed.

The goal of this new collection is to determine whether the previous height recommendation for proper seat belt fit among children is valid in the current vehicle fleet and among today's children. Findings from this data collection will inform CDC's child passenger safety recommendation regarding when children can safely transition from using a booster seat with the vehicle seat belt to using only the vehicle seat belt. This study will also provide information on ways to further reduce motor vehicle-related injuries and deaths among children. Prospective study participants will answer a series of screening questions. Individuals who meet the screening criteria and are willing to participate will complete an in-person measurement session lasting approximately 2 hours. In-person measurement sessions will collect data on 224 children aged 6-12 years. Data will be analyzed using descriptive statistics, mean, standard deviation, and logistic regression.

OMB approval is requested for three years. Participation in the information collection is voluntary. There are no costs to respondents other than their time.

Estimated Annualized Burden Hours
Type of respondents | Form name | Number of respondents | Number of responses per respondent | Response burden (hours) | Total burden hours
Parent/guardian of children aged 6-12 years | Screener Script Guide | 200 | 1 | 5/60 | 17
Child participants aged 6-12 years | Seat Belt Fit Measurements | 75 | 1 | 2 | 150
Total |  |  |  |  | 167

Leroy A. Richardson,
Chief, Information Collection Review Office, Office of Scientific Integrity, Office of the Associate Director for Science, Office of the Director, Centers for Disease Control and Prevention.

[FR Doc. 2015-28409 Filed 11-6-15; 8:45 am]

BILLING CODE 4163-18-P